INTER-AMERICAN FOUNDATION

Sunshine Act Meetings

TIME AND DATE: May 7, 2018, 10:00 a.m.-1:00 p.m.

PLACE: Inter-American Foundation, 1331 Pennsylvania Ave. NW, Suite 1200 North Building, Washington, DC 20004.

STATUS: Meeting of the Board of Directors, Open to the Public.

MATTERS TO BE CONSIDERED:

Approval of the Minutes of the November 6, 2017, Meeting of the Board of Directors & Advisory Council

FY 18 Budget and FY19 Request

Status of Nomination of New Board Member(s)

Management Report

IAF's 50th Anniversary

Grant Review Committee

Adjournment

CONTACT PERSON FOR MORE INFORMATION: Paul Zimmerman, General Counsel, (202) 683-7118.

Paul Zimmerman,
General Counsel.

[FR Doc. 2018-09063 Filed 4-25-18; 4:15 pm]

BILLING CODE 7025-01-P